DEPARTMENT OF HEALTH AND HUMAN SERVICES

National Institutes of Health

Proposed Collection; Comment Request; Assessment for NIH Minority Research/Training Programs: Phase 3

SUMMARY: In compliance with the requirement of section 3506(c)(2)(A) of the Paperwork Reduction Act of 1995, for opportunity for public comment on proposed data collection projects, the National Research Council, on behalf of the National Institutes of Health (NIH) will publish periodic summaries of proposed projects to be submitted to the Office of Management and Budget (OMB) for review and approval.

Proposed Collection

Title: Assessment for NIH Minority Research/Training Programs: Phase 3. Type of Information Collection Request: NEW. Need and Use of Information Collection: The goal of this study is to assess and analyze NIH minority trainee educational and career outcomes to determine which programs and which features of programs have been most successful in helping individual students and faculty members move toward productive careers as research scientists. The primary objectives of the study are to determine how well NIH minority research/training programs are working and what additional factors contribute to minority trainee success, including characteristics of individual participants and the academic institutions where they received NIH research/training support and/or obtained their terminal degree.

In addition to conducting an assessment and analysis of the programs based upon information in existing NIH databases, current and former NIH trainees will be asked to participate in a voluntary telephone interview in which they will be asked to comment on aspects of their research training experience. Trainees asked to participate in the survey will include individuals who received research training in underrepresented minority-targeted programs and non-targeted programs, and who received support at academic levels ranging from their undergraduate years to the faculty level. This data collection will involve the use of computer-assisted telephone interviewing (CATI) software.

Program administrators at training grant recipient institutions will be interviewed by telephone to obtain their perspectives on the training programs. The results of the program administrator interviews will help NIH determine (1) The ways and extent to which NIH minority research/training programs work; (2) which features of minority programs have been the most successful in helping individual students and faculty members move forward toward productive careers as research scientists; (3) what programmatic, environmental, or other factors increase the likelihood of minority training programs and their participating trainees achieving success; and (4) how to better assess NIH minority training programs in the future. These interviews will provide a depth and quality of data that are not available through database query alone.

Frequency of response: one-time. Affected Public: Individuals. Type of Respondent: Individuals who have participated in NIH minority training programs. Estimated Number of Respondents: 1,200; Estimated Number of Responses per Respondent: 1; Average Burden Hours Per Response: .5; and Estimated Total Annual Burden Hours Requested: 600. There are no Capital Costs to report. There are no Operating or Maintenance Costs to report.

Request for Comments: Written comments and/or suggestions from the public and affected agencies should address one or more of the following points: (1) Whether the proposed collection of information is necessary for the proper performance of the function of the agency, including whether the information will have practical utility; (2) The accuracy of the agency's estimate of the burden of the proposed collection of information, including the validity of the methodology and assumptions used; (3) Ways to enhance the quality, utility, and clarity of the information to be collected; and (4) Ways to minimize the burden of the collection of information on those who are to respond, including the use of appropriate automated, electronic, mechanical, or other technological collection techniques or other forms of information technology.

FOR FURTHER INFORMATION CONTACT: To request more information on the proposed project or to obtain a copy of the data collection plans and instruments, contact: Dr. Joan Esnayra, Program Officer, Board on Higher Education and the Workforce, National Research Council National Academies, 2101 Constitution Ave. NW., Washington, DC 20418, or call non-toll-free number (202) 334-2539, or e-mail your request, including your address, to jesnayra@nas.edu.

Comments Due Date: Comments regarding this information collection are best assured of having their full effect if received within 60 days of the date of this publication.

Dated: January 29, 2003.
John Ruffin,
Director, National Center on Minority Health and Health Disparities, NIH.

[FR Doc. 03-2988 Filed 2-6-03; 8:45 am]

BILLING CODE 4140-01-M